DEPARTMENT OF JUSTICE

Antitrust Division

Notice Pursuant to the National Cooperative Research and Production Act of 1993—The Open Group, L.L.C.

Notice is hereby given that, on December 8, 2015, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, AEGIS.net, Inc., Rockville, MD; Air Force Research Laboratory, Kirtland AFB, NM; Aoyama Gakuin University, Tokyo, JAPAN; Bank of Zambia, Lusaka, ZAMBIA; Dunstan Thomas Consulting, Ltd., Portsmouth, UNITED KINGDOM; Front Metrics Technologies Pvt. Ltd., Pune, INDIA; Geco, Inc., Mesa, AZ; Inspur Co., Ltd., Beijing, PEOPLE'S REPUBLIC OF CHINA; IAB BVBA, Boutersem, BELGIUM; Intelligent Training de Columbia, Bogota, COLOMBIA; Joint Tactical Network Center, San Diego, CA; M J Anniss, Ltd., Nairn, UNITED KINGDOM; PLANAD Consultoria em Gestão Empreserial Ltda., São Paulo, BRAZIL; SIGMAXYZ Inc., Tokyo, JAPAN; S.P. Jain Institute of Management Research, Mumbai, INDIA; Universidad Continental, Huancayo, PERU; University of Dayton Research Institute, Dayton, OH; Vencore, Inc., Lexington Park, MD; Vigillence, Inc., McLean, VA; and White Cloud Software Ltd., Bowen Island, CANADA, have been added as parties to this venture.

Also, Architecture Capability Assurance Strategic Group, Palo Alto, CA; ATSI S.A., Zabierzow, POLAND; AXE, Inc., Nakagyo-ku, JAPAN; Bell Helicopter Textron Inc., Fort Worth, TX; CS Interactive Training, Pretoria, SOUTH AFRICA; EXELIS, Inc., Clifton, NJ; Fairchild Controls Corporation, Frederick, MD; Hoople Limited, Hereford, UNITED KINGDOM; Howell Instruments, Inc., Fort Worth, TX; Indra Colombia, Bogota, COLOMBIA; Kamehameha Schools-Trustees of the Estate of Bernice Pauahi Bishop, Honolulu, HI; Korea Software Technology Association, Gyeonggi-Do, REPUBLIC OF KOREA; Mobile Reasoning, Inc., Lenaxa, KS; Nippon Telegraph & Telephone Corporation, Tokyo, JAPAN; Online Business Systems, Winnepeg, CANADA; PreterLex Limited, Cambridge, UNITED KINGDOM; University of Nordland, Oslo, NORWAY; VIP Apps Consulting Limited, Hertfordshire, UNITED KINGDOM; and World Vision International, Monrovia, CA, have withdrawn as parties to this venture.

In addition, Hewlett Packard Company has changed its name to Hewlett Packard Enterprises, Cupertino, CA.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on September 9, 2015. A notice was published in the Federal Register pursuant to section 6(b) of the Act on October 2, 2015 (80 FR 59816).

Patricia A. Brink,
Director of Civil Enforcement, Antitrust Division.

[FR Doc. 2016-00325 Filed 1-8-16; 8:45 am]

BILLING CODE P